AGENCY FOR INTERNATIONAL DEVELOPMENT

Notice of Public Information Collection Requirements Submitted to OMB for Review

SUMMARY: U.S. Agency for International Development (USAID) has submitted the following information collections to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington, D.C. 20503. Copies of submission may be obtained by calling (202) 712-1365.

SUPPLEMENTARY INFORMATION: OMB Number: OMB 0412-0514.

Form Number: N/A.

Title: Rules and Procedures Applicable to Commodity Transactions.

Type of Submission: Renewal of Information Collection.

Purpose: USAID finances transactions under Collection Import Programs and needs to assure that the transaction compiles with applicable statutory and regulatory requirements. In order to assure compliance and request refund when appropriate, information is required from host country importers, suppliers receiving from host country importers, suppliers receiving USAID funds and banks making payments for USAID.

Annual Reporting Burden:

Respondents: 308.

Total annual responses: 1991.

Total annual hours requested: 869 hours.

Dated: June 29, 2000.
Joanne Paskar,
Chief, Information and Records Division, Office of Administrative Services Bureau for Management.

[FR Doc. 00-17478 Filed 7-10-00; 8:45 am]

BILLING CODE 6116-01-M